DEPARTMENT OF COMMERCE

National Oceanic and Atmospheric Administration

[RTID 0648-XC245]

Marine Mammals; File No. 24359

AGENCY: National Marine Fisheries Service (NMFS), National Oceanic and Atmospheric Administration (NOAA), Commerce.

ACTION: Notice; receipt of application.

SUMMARY: Notice is hereby given that the NMFS Office of Protected Resources, Marine Mammal Health and Stranding Response Program (MMHSRP; Responsible Party: Sarah Wilkin), 1315 East West Highway, Silver Spring, MD 20910, has applied in due form for a permit to conduct research and enhancement on marine mammals.

DATES: Written, telefaxed, or email comments must be received on or before September 7, 2022.

ADDRESSES: The application and related documents are available for review by selecting “Records Open for Public Comment” from the “Features” box on the Applications and Permits for Protected Species (APPS) home page, https://apps.nmfs.noaa.gov, and then selecting File No. 24359 from the list of available applications. These documents are also available upon written request via email to NMFS.Pr1Comments@noaa.gov.

Written comments on this application should be submitted via email to NMFS.Pr1Comments@noaa.gov. Please include File No. 24359 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The MMHSRP requests a 5 year permit for activities including: (1) emergency response involving but not limited to rescue, rehabilitation, release, and entanglement response of threatened and endangered marine mammals under NMFS jurisdiction; (2) conducting health-related, bona fide scientific research and biomonitoring studies on marine mammals and marine mammal parts under NMFS jurisdiction; (3) unintentionally harassing non-target marine mammal species under NMFS jurisdiction during MMHSRP activities; and (4) collecting, salvaging, receiving, possessing, transferring, importing, exporting, analyzing, and curating marine mammal parts under NMFS jurisdiction.

Procedures proposed to carry out the activities include, but are not limited to: close approach via ground, vessel, and aerial surveys (manned and unmanned); hazing and attractants; capture, restraint, and handling; administration of drugs including anesthesia, medical treatments, and vaccinations; attachment of scientific instruments; marking (temporary and permanent including freeze- and hot-branding); disentanglement and de-hooking; rehabilitation, transport, and release; biological sampling and analyses; auditory evoked potential; active acoustic playbacks and echosounders for prey mapping; import and export; and unintentional harassment. Unintentional mortality, including euthanasia for humane purposes, may occur during emergency response and research activities including, but not limited to, accidental drowning during captures, trampling due to flushing, and vessel strike. See the application for take numbers requested by species, life stage, and procedure.

In compliance with the National Environmental Policy Act of 1969 (42 U.S.C. 4321 et seq.), NMFS is preparing a final Programmatic Environmental Impact Statement (PEIS) to examine whether significant environmental impacts could result from issuance of the proposed scientific research permit. A draft of the PEIS was available for public review and comment in 2021 (86 FR 26514; May 14, 2021 and extended 86 FR 33705; June 25, 2021). The draft PEIS and information about the PEIS is available on the following website: https://www.fisheries.noaa.gov/resource/document/programmatic-environmental-impact-statement-mmhsrp.

Concurrent with the publication of this notice in the Federal Register, NMFS is forwarding copies of the application to the Marine Mammal Commission and its Committee of Scientific Advisors.

Dated: August 3, 2022.
Julia M. Harrison,
Chief, Permits and Conservation Division, Office of Protected Resources, National Marine Fisheries Service.

[FR Doc. 2022-16936 Filed 8-5-22; 8:45 am]

BILLING CODE 3510-22-P